Memorandum of December 12, 2024

Establishment of the Countering Economic Coercion Task Force

Memorandum for the Heads of Executive Departments and Agencies

By the authority vested in me as President by the Constitution and the laws of the United States of America, and to improve efforts to respond to coercive economic practices of countries of concern, including the People's Republic of China (PRC), it is hereby ordered as follows:

Section 1. Policy. Consistent with section 5514 of the James M. Inhofe National Defense Authorization Act for Fiscal Year 2023 (Public Law 117-263, 22 U.S.C. 3362) (the “Act”), I am directing the Assistant to the President for National Security Affairs and the Director of the National Economic Council to oversee an interagency effort to address the increasing use of economic coercion by countries of concern, including the PRC; to assess potential vulnerabilities of countries, including within their private sectors, to such coercion; and to develop concrete recommendations for a comprehensive, effective, and, as appropriate, multilateral response, including to deter future coercive economic behavior.

Sec. 2. Establishment. There is established within the Executive Office of the President the Countering Economic Coercion Task Force (Task Force).

Sec. 3. Membership. (a) The Task Force shall be chaired by the Assistant to the President for National Security Affairs, or his or her designee, and vice-chaired by the Director of the National Economic Council, or his or her designee.

(b) In addition to the Chair and the Vice Chair, the Task Force shall consist of representatives from the following executive departments and agencies (agencies), the heads of which shall designate or appoint personnel at the level of Assistant Secretary or above to participate in the Task Force:

(i) the Department of State;

(ii) the Department of the Treasury;

(iii) the Department of Defense;

(iv) the Department of Justice;

(v) the Department of Agriculture;

(vi) the Department of Commerce;

(vii) the Department of Labor;

(viii) the Department of Health and Human Services;

(ix) the Department of Energy;

(x) the Department of Homeland Security;

(xi) the Office of the Director of National Intelligence;

(xii) the Office of the United States Trade Representative;

(xiii) the Central Intelligence Agency;

(xiv) the United States Agency for International Development;

(xv) the Export-Import Bank of the United States;

(xvi) the Trade and Development Agency;

(xvii) the United States International Development Finance Corporation; and

(xviii) other agencies and offices as the President may, from time to time, designate.

Sec. 4. Mission and Function. The Task Force shall work across agencies and offices to oversee the development and implementation of an integrated United States Government strategy to respond to and deter coercive economic practices by countries of concern, including the PRC. That strategy shall include the elements outlined in section 5514(c)(1)(A) of the Act (22 U.S.C. 3362(c)(1)(A)) and shall, consistent with section 5514(c)(2) of the Act (22 U.S.C. 3362(c)(2)), be informed by consultations with relevant stakeholders, including, as necessary and appropriate, stakeholders in the private sector, agencies that are not represented on the Task Force, and foreign allies and partners of the United States. The Task Force shall also perform the other responsibilities set forth in section 5514(c)(1) of the Act (22 U.S.C. 3362(c)(1)).

Sec. 5. Reporting on the Work and Recommendations of the Task Force. (a) Within 180 days of the date of this memorandum, the Task Force shall submit to the Congress the initial report described in section 5514(e)(1) of the Act (22 U.S.C. 3362(e)(1)).

(b) Within 1 year of submitting the initial report described in subsection (a) of this section, the Task Force shall submit to the Congress the first interim report described in section 5514(e)(2)(A) of the Act (22 U.S.C. 3362(e)(2)(A)).

(c) Within 1 year of submitting the first interim report described in subsection (b) of this section, the Task Force shall submit to the Congress the second interim report described in section 5514(e)(2)(B) of the Act (22 U.S.C. 3362(e)(2)(B)).

(d) Within 30 days of submitting the second interim report described in subsection (c) of this section, the Task Force shall submit to the Congress the final report described in section 5514(e)(3) of the Act (22 U.S.C. 3362(e)(3)).

(e) The Task Force shall also consolidate any input received and submit periodic recommendations to the President on policies and regulatory actions to address systemic harms from PRC economic coercion.

Sec. 6. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) The Attorney General is authorized and directed to publish this memorandum in the Federal Register.

THE WHITE HOUSE,

Washington, December 12, 2024

[FR Doc. 2024-30208

Filed 12-16-24; 11:15 am]

Billing code 4410-19-P